DEPARTMENT OF COMMERCE

National Oceanic and Atmospheric Administration

[RTID 0648-XC198]

Marine Mammals; File No. 26614

AGENCY: National Marine Fisheries Service (NMFS), National Oceanic and Atmospheric Administration (NOAA), Commerce.

ACTION: Notice; receipt of application.

SUMMARY: Notice is hereby given that Craig Matkin, Director, North Gulf Oceanic Society, 3430 Main St. Suite B1, Homer, Alaska 99603, has applied in due form for a permit to conduct research on marine mammals.

DATES: Written, telefaxed, or email comments must be received on or before September 6, 2022.

ADDRESSES: The application and related documents are available for review by selecting “Records Open for Public Comment” from the “Features” box on the Applications and Permits for Protected Species (APPS) home page, https://apps.nmfs.noaa.gov, and then selecting File No. 26614 from the list of available applications. These documents are also available upon written request via email to NMFS.Pr1Comments@noaa.gov.

Written comments on this application should be submitted via email to NMFS.Pr1Comments@noaa.gov. Please include File No. 26614 in the subject line of the email comment.

Those individuals requesting a public hearing should submit a written request via email to NMFS.Pr1Comments@noaa.gov. The request should set forth the specific reasons why a hearing on this application would be appropriate.

FOR FURTHER INFORMATION CONTACT: Courtney Smith, Ph.D., or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to continue a long-term research study of killer whales (Orcinus orca) in Alaskan waters, focusing on their population status, health, and ecosystem interactions. Research methods include vessel and aerial (small unmanned aircraft system) surveys to conduct photo-identification, photogrammetry, diet sampling (prey remain and fecal sample collection), passive acoustic recording, and breath and biopsy sampling. Up to 3,000 killer whales may be photographed annually, with up to 35 whales biopsy sampled. Prey remains may be collected from endangered salmonid species (Oncorhynchus spp.) and up to 25 each of the following species minke whales (Balaenoptera acutorostrata), harbor porpoise (Phocoena phocoena), Dall's porpoise (Phocoenoides dalli), harbor seals (Phoca vitulina), Pacific white-sided dolphins (Lagenorhynchus obliquidens), northern fur seals (Callorhinus ursinus), and other unidentified cetaceans or pinnipeds. Prey remains and other samples may be imported and/or exported. The permit would be valid for 5 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 1, 2022.
Julia M. Harrison,
Chief, Permits and Conservation Division, Office of Protected Resources, National Marine Fisheries Service.

[FR Doc. 2022-16735 Filed 8-3-22; 8:45 am]

BILLING CODE 3510-22-P